NATIONAL SCIENCE FOUNDATION

Notice of Permit Modification Received Under the Antarctic Conservation Act of 1978

AGENCY: National Science Foundation.

ACTION: Notice of permit modification request received and permit issued under the Antarctic Conservation Act of 1978, Public Law 95-541.

SUMMARY: The National Science Foundation (NSF) is required to publish a notice of requests to modify permits issued to conduct activities regulated and permits issued under the Antarctic Conservation Act of 1978. NSF has published regulations under the Antarctic Conservation Act at Title 45 Part 670 of the Code of Federal Regulations. This is the required notice of a requested permit modification and permit issued.

FOR FURTHER INFORMATION CONTACT: Li Ling Hamady, ACA Permit Officer, Division of Polar Programs, Rm. 755, National Science Foundation, 4201 Wilson Boulevard, Arlington, VA 22230. Or by email: ACApermits@nsf.gov

SUPPLEMENTARY INFORMATION: The Foundation issued a permit (ACA 2016-003) to Celia Lang, Lockheed Martin IS&GS on August 11, 2015. The issued permit allows the applicant to enter specifically named McMurdo area ASPAs to support NSF funded USAP science operations. Now the applicant proposes a modification to the permit to add ASPA 175 High Altitude Geothermal Sites of the Ross Sea Region to the list for possible entry. The Environmental Officer has reviewed the modification request and has determined that the amendment is not a material change to the permit, and it will have a less than a minor or transitory impact.

DATES: August 11, 2015 to August 31, 2020.

The permit modification was issued on September 16, 2015.

Nadene G. Kennedy,
Polar Coordination Specialist, Division of Polar Programs.

[FR Doc. 2015-23569 Filed 9-18-15; 8:45 am]

BILLING CODE 7555-01-P